INTERNATIONAL TRADE COMMISSION

[Investigations Nos. 701-TA-422-425 and 731-TA-964-983 (Final)]

Certain Cold-Rolled Steel Products From Argentina, Australia, Belgium, Brazil, China, France, Germany, India, Japan, Korea, the Netherlands, New Zealand, Russia, South Africa, Spain, Sweden, Taiwan, Thailand, Turkey, and Venezuela

AGENCY: United States International Trade Commission.

ACTION: Reopening of the record.

EFFECTIVE DATE: August 22, 2002.

FOR FURTHER INFORMATION CONTACT: Fred Fischer (202-205-3179/ffischer@usitc.gov), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS-ON-LINE) at http://dockets.usitc.gov/eol/public.

SUPPLEMENTARY INFORMATION: On August 22, 2002, the Department of Commerce announced the final set of products to be excluded from the safeguard measure on steel products. The Commission is reopening the record in the subject investigations for the sole purpose of accepting the final list of safeguard exclusions and imports thereof. Parties may comment on this list of exclusions in a submission not to exceed five pages in length that must be filed by no later than 2 p.m. on Monday, August 26, 2002, pursuant to Commission rule 207.30.

For further information concerning these investigations see the Commission's notice cited above and the Commission's rules of practice and procedure, part 201, subparts A through E (19 CFR part 201), and part 207, subparts A and C (19 CFR part 207).

Authority: These investigations are being conducted under authority of title VII of the Tariff Act of 1930; this notice is published pursuant to section 207.21 of the Commission's rules.

Issued: August 23, 2002.
By order of the Commission.
Marilyn R. Abbott,
Secretary to the Commission.

[FR Doc. 02-21930 Filed 8-27-02; 8:45 am]

BILLING CODE 7020-02-P